DEPARTMENT OF ENERGY

Federal Energy Regulatory Commission

[Docket No. AC24-40-000]

Black Hills Shoshone Pipeline, LLC; Notice of Filing

Take notice that on April 5, 2024, Black Hills Shoshone Pipeline LLC, submitted a request for a two year waiver of the Federal Energy Regulatory Commission's (Commission) requirement to provide its certified public accountant (CPA) certification statement for the 2023 FERC Form No. 2-A on the basis of the calendar year ending December 31.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

In addition to publishing the full text of this document in the Federal Register, the Commission provides all interested persons an opportunity to view and/or print the contents of this document via the internet through the Commission's Home Page (http://ferc.gov) using the “eLibrary” link. Enter the docket number excluding the last three digits in the docket number field to access the document.

The Commission strongly encourages electronic filings of comments, protests, and interventions in lieu of paper using the “eFiling” link at http://www.ferc.gov. In lieu of electronic filing, you may submit a paper copy which must reference the Project docket number.

To file via USPS: Debbie-Anne A. Reese, Acting Secretary, Federal Energy Regulatory Commission, 888 First Street NE, Washington, DC 20426.

To file via any other courier: Debbie-Anne A. Reese, Acting Secretary, Federal Energy Regulatory Commission, 12225 Wilkins Avenue, Rockville, Maryland 20852.

Comment Date: 5:00 p.m. Eastern Time on May 10, 2024.

Dated: April 10, 2024.
Debbie-Anne A. Reese,
Acting Secretary.

[FR Doc. 2024-08074 Filed 4-15-24; 8:45 am]

BILLING CODE 6717-01-P